DEPARTMENT OF THE INTERIOR

Bureau of Land Management

[LLCOS01000.L16100000.DR0000]

Notice of Availability of the Record of Decision for the Tres Rios Field Office Approved Resource Management Plan/Final Environmental Impact Statement, Colorado

AGENCY: Bureau of Land Management, Interior.

ACTION: Notice of Availability.

SUMMARY: The Bureau of Land Management (BLM) announces the availability of the Record of Decision (ROD) for the Approved Resource Management Plan (RMP) for the Tres Rios Field Office located in Archuleta, Dolores, Hinsdale, La Plata, Montezuma, Montrose, San Juan and San Miguel counties in southwest Colorado. The document also serves as the BLM's decision to adopt the U.S. Forest Service oil and gas leasing decisions for Federal mineral estate administered by the San Juan National Forest in Archuleta, Dolores, Hinsdale, La Plata, Mineral, Montezuma, Rio Grande and San Juan counties. The Colorado State Director signed the ROD on February 27, 2015, which constitutes the final decision of the BLM and makes the Approved RMP effective immediately.

ADDRESSES: Copies of the ROD/Approved RMP are available upon request from the Field Manager, BLM Tres Rios Field Office, 29211 Highway 184, Dolores, CO 81323; or via the internet at http://www.blm.gov/co/st/en/fo/sjplc/land_use_planning.html. The ROD/Approved RMP are available for public inspection at the Tres Rios Field Office, and the San Juan Public Lands Center, 15 Burnett Court, Durango, CO 81301.

FOR FURTHER INFORMATION CONTACT: Gina Jones, Southwest District NEPA Coordinator; telephone 970-240-5381; address 2465 South Townsend Avenue, Montrose, CO 81401; email gmjones@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The RMP provides management for 503,589 acres of BLM land in southwest Colorado. The RMP describes the actions to meet desired resource conditions for upland and riparian vegetation; fish and wildlife habitat; water resources; air quality; cultural, paleontological and visual resources; as well as livestock grazing; mineral and alternative energy; and recreation.

The BLM and the U.S. Forest Service initiated scoping for the RMP in 1999. The agencies sought public input via meetings and interviews, including an intensive year of facilitated public meetings in 2005, in order to develop the Draft Land and Resource Management Plan (LRMP)/Environmental Impact Statement (EIS). The Draft was published for a 90-day public comment period in December 2007. Based on public comments, the agencies identified the need to prepare a Supplement to the Draft EIS to consider the Reasonable Foreseeable Development potential of oil and gas in the Gothic Shale Gas Play, which was published in August 2011. The preferred alternative for the Draft LRMP was carried forward into the Proposed LRMP/Final EIS, which was published in September 2013, initiating the protest period and Governor's Consistency Review. During the protest period for the Proposed LRMP, the BLM received 14 valid protest submissions. The BLM granted one protest in part and dismissed the remaining protests. The BLM granted in part one protest regarding 15 potential Areas of Critical Environmental Concern (ACEC) that BLM determined met both the relevance and importance criteria, but were not analyzed in the range of alternatives in the Draft EIS due to a procedural error. The BLM will evaluate these areas, as well as the two existing ACECs that will continue to be designated as ACECs in the Approved RMP, in a future plan amendment. The decisions in the Approved RMP will protect these areas from impairment of their identified relevant and important values.

As a result of the Governor's Consistency Review, the BLM modified its direction to maintain minimum instream flow levels for the benefit of fisheries from a standard to a guideline. The BLM has also made minor editorial modifications to the Approved RMP to provide further clarification of some of the decisions.

The ROD also serves as the BLM's decision to adopt the U.S. Forest Service oil and gas leasing decision for Federal mineral estate administered by the San Juan National Forest. The U.S. Forest Service outlined its decision in the San Juan National Forest's September 2013 Record of Decision, Oil and Gas Leasing Availability. The BLM concurs with the selection of Alternative B as described in the U.S. Forest Service Record of Decision. In the Approved RMP, the BLM also designates routes for mechanized travel in the Phil's World and Mud Springs portion of the planning area that were analyzed in the 2008 Cortez-Mancos Travel Management Plan Environmental Assessment (CO-800-2006-090-EA). These route designations are implementation decisions and are appealable under 43 CFR part 4. These decisions are contained in Section 2.13 of the Approved RMP. Any party adversely affected by the proposed route designations may appeal within 30 days of publication of this Notice of Availability pursuant to 43 CFR part 4, subpart E. The appeal should state the specific route(s), as identified in Appendix A of the Approved RMP, for which the decision is being appealed. The appeal must be filed with the Tres Rios Field Manager at the above listed address. Please consult the appropriate regulations (43 CFR part 4, subpart E) for further appeal requirements.

Authority: 40 CFR 1506.6, 40 CFR 1506.10.

Ruth Welch,
BLM Colorado State Director.

[FR Doc. 2015-04075 Filed 2-26-15; 8:45 am]

BILLING CODE 4310-JB-P